DEPARTMENT OF THE INTERIOR

National Park Service

[NPS-WASO-NAGPRA-NPS0037916; PPWOCRADN0-PCU00RP14.R50000]

Notice of Intended Repatriation: Ball State University, David Owsley Museum of Art, Muncie, IN

AGENCY: National Park Service, Interior.

ACTION: Notice.

SUMMARY: In accordance with the Native American Graves Protection and Repatriation Act (NAGPRA), the David Owsley Museum of Art of Ball State University (DOMA) intends to repatriate certain cultural items that meet the definition of sacred objects, and objects of cultural patrimony and that have a cultural affiliation with the Indian Tribes or Native Hawaiian organizations in this notice.

DATES: Repatriation of the cultural items in this notice may occur on or after June 12, 2024.

ADDRESSES: Chyan Gilaspy, Ball State University, Applied Anthropology Laboratories, 2000 W University Avenue, Muncie, IN 47306, telephone (765) 285-5362, email NAGPRA@bsu.edu.

SUPPLEMENTARY INFORMATION: This notice is published as part of the National Park Service's administrative responsibilities under NAGPRA. The determinations in this notice are the sole responsibility of DOMA, and additional information on the determinations in this notice, including the results of consultation, can be found in the summary or related records. The National Park Service is not responsible for the determinations in this notice.

Abstract of Information Available

A total of two cultural items have been requested for repatriation. The sacred objects/objects of cultural patrimony are one royal poi bowl and one carved wood bowl with two standing figures. In 1983, a private donor donated one item of cultural patrimony/sacred object (carved wood bowl with two standing figures) to DOMA. This item is identified by DOMA catalog number 1983.006.080. There is no known information for this item regarding the geographic location or donor acquisition history. In 1986, a private donor donated one object of cultural patrimony/sacred object (royal poi bowl) to DOMA. This item is identified by DOMA catalog number 1986.044.010. This item was given to the donor's father by the Governor of Hawaii in the early 1900s. There is no known information regarding the possible dates of creation or the presence of any potentially hazardous substances used to treat either of the cultural items.

Determinations

DOMA has determined that:

• The two sacred objects/objects of cultural patrimony described in this notice are, according to the Native American traditional knowledge of an Indian Tribe or Native Hawaiian organization, specific ceremonial objects needed by a traditional Native American religious leader for present-day adherents to practice traditional Native American religion, and have ongoing historical, traditional, or cultural importance central to the Native American group, including any constituent sub-group (such as a band, clan, lineage, ceremonial society, or other subdivision).

• There is a reasonable connection between the cultural items described in this notice and the Pu'uhonua o Wailupe.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after June 12, 2024. If competing requests for repatriation are received, DOMA must determine the most appropriate requestor prior to repatriation. Requests for joint repatriation of the cultural items are considered a single request and not competing requests. DOMA is responsible for sending a copy of this notice to the Indian Tribes and Native Hawaiian organizations identified in this notice and to any other consulting parties.

Authority: Native American Graves Protection and Repatriation Act, 25 U.S.C. 3004 and the implementing regulations, 43 CFR 10.9.

Dated: May 3, 2024.
Melanie O'Brien,
Manager, National NAGPRA Program.

[FR Doc. 2024-10334 Filed 5-10-24; 8:45 am]

BILLING CODE 4312-52-P